DEPARTMENT OF DEFENSE

Department of the Army, Corps of Engineers

33 CFR Part 334

Disestablishment of Danger Zone for Meteorological Rocket Launching Facility, Shemya Island Area, AK

AGENCY: U.S. Army Corps of Engineers, DoD.

ACTION: Proposed rule.

SUMMARY: The U.S. Air Force has requested that the U.S. Army Corps of Engineers (Corps) disestablish the existing danger zone located in the Bering Sea near Shemya Island, Alaska. The danger zone was established on September 28, 1971. The purpose of the danger zone was to protect persons and property from dangers encountered in the area associated with the launching of weather rockets. The facility has not been used for this activity since the mid-1980s. As a result of the discontinued use of this area, the Air Force has requested the danger zone be disestablished. In the “Rules and Regulations” section of Federal Register, we are publishing the restricted area disestablishment as a direct final rule without prior proposal because we view this as a non-controversial adjustment to our restricted area regulations and anticipate no adverse comment. We have explained our reasons for this approval in the preamble to the direct final rule. If we receive no adverse comment, we will not take further action on this rule and it will go into effect. If we receive adverse comment, we will withdraw the direct final rule and it will not take effect. We will address all public comments in a subsequent final rule based on this proposed rule. We will not institute a second comment period on this action. Any parties interested in commenting must do so at this time.

DATES: Written comments must be received by April 25, 2016.

SUPPLEMENTARY INFORMATION:

This document concerns the “Disestablishment of Danger Zone for Meteorological Rocket Launching Facility, Shemya Island Area, AK.” For further information, including instructions on how to submit comments, please see the information provided in the direct final rule that is located in the “Rules and Regulations” section of this Federal Register publication.

Dated: March 18, 2016.
Edward E. Belk, Jr.,
Chief, Operations and Regulatory Division, Directorate of Civil Works.

[FR Doc. 2016-06861 Filed 3-24-16; 8:45 am]

BILLING CODE 3720-58-P